DEPARTMENT OF HEALTH AND HUMAN SERVICES

Centers for Disease Control and Prevention

[30Day-20-0493]

Agency Forms Undergoing Paperwork Reduction Act Review

In accordance with the Paperwork Reduction Act of 1995, the Centers for Disease Control and Prevention (CDC) has submitted the information collection request titled 2021 and 2023 National Youth Risk Behavior Surveys to the Office of Management and Budget (OMB) for review and approval. CDC previously published a “Proposed Data Collection Submitted for Public Comment and Recommendations” notice on February 28, 2020 to obtain comments from the public and affected agencies. CDC received five (5) comments related to the previous notice. This notice serves to allow an additional 30 days for public and affected agency comments.

CDC will accept all comments for this proposed information collection project. The Office of Management and Budget is particularly interested in comments that: (a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

2021 and 2023 National Youth Risk Behavior Surveys (OMB Control No. 0920-0493)—Reinstatement with Change—National Center for HIV/AIDS, Viral Hepatitis, STD, and TB Prevention (NCHHSTP), Centers for Disease Control and Prevention (CDC).

Background and Brief Description

The purpose of this request is to obtain OMB approval to reinstate with change, the data collection for the National Youth Risk Behavior Survey (YRBS), a school-based survey that has been conducted biennially since 1991. OMB approval for the 2017 YRBS and 2019 YRBS expired September 30, 2019 (OMB Control No. 0920-0493). CDC seeks a three-year approval to conduct the YRBS in Spring 2021 and Spring 2023. Minor changes incorporated into this reinstatement request include: An updated title for the information collection to accurately reflect the years in which the survey will be conducted, minor changes to the data collection instrument, and the use of a tablet-based data collection methodology starting in 2023.

The YRBS assesses priority health risk behaviors related to the major preventable causes of mortality, morbidity, and social problems among both youth and young adults in the United States. Data on health risk behaviors of adolescents are the focus of approximately 65 national health objectives in Healthy People 2030, an initiative of the U.S. Department of Health and Human Services (HHS). The YRBS provides data to measure 13 of the proposed health objectives and one of the Leading Health Indicators currently under public comment to establish Healthy People 2030 objectives. In addition, the YRBS can identify racial and ethnic disparities in health risk behaviors. No other national source of data measures as many of the Healthy People 2030 objectives addressing adolescent health risk behaviors as the YRBS. The data also will have significant implications for policy and program development for school health programs nationwide.

In Spring 2021 and Spring 2023, the YRBS will be conducted among nationally representative samples of students attending public and private schools in grades 9-12. The survey is anonymous and will be conducted using paper-and-pencil questionnaires in 2021 and tablets in 2023. Information supporting the YRBS also will be collected from state-, district-, and school-level administrators and teachers. No individually identifiable information will be collected and only aggregated student data will be published. The table below reports the number of respondents annualized over the three-year project period.

There are no costs to respondents except their time. The total estimated annualized burden hours are 6,259.

Estimated Annualized Burden Hours
Type of respondent | Form name | Number of respondents | Number of responses per respondent | Average burden per response (in hours)
State Administrators | State-level Recruitment Script for the Youth Risk Behavior Survey | 17 | 1 | 30/60
District Administrators | District-level Recruitment Script for the Youth Risk Behavior Survey | 80 | 1 | 30/60
School Administrators | School-level Recruitment Script for the Youth Risk Behavior Survey | 133 | 1 | 30/60
Teachers | Data Collection Checklist for the Youth Risk Behavior Survey | 440 | 1 | 15/60
Students | Youth Risk Behavior Survey | 8,045 | 1 | 45/60

Jeffrey M. Zirger,
Lead, Information Collection Review Office, Office of Scientific Integrity, Office of Science, Centers for Disease Control and Prevention.

[FR Doc. 2020-11796 Filed 6-1-20; 8:45 am]

BILLING CODE 4163-18-P